DEPARTMENT OF ENERGY

Federal Energy Regulatory Commission

[Docket No. RP00-494-001]

Williams Gas Pipelines Central, Inc.; Notice of Compliance Filing

August 6, 2002.

Take notice that on August 1, 2002, Williams Gas Pipelines Central, Inc. (Williams) tendered for filing as part of its FERC Gas Tariff, Original Volume No. 1, the revised tariff sheets listed on Appendix A to the filing.

Williams states that this filing is being made to comply with the Commission's Order on Compliance with Order Nos. 637, 587-G and 587-L issued on July 3, 2002 (100 FERC ¶ 61,034 (2002). The tariff sheets incorporate changes directed by the Commission in its July 3 Order.

Williams states that copies of the revised tariff sheets are being mailed to Williams' jurisdictional customers and interested state commissions.

Any person desiring to protest said filing should file a protest with the Federal Energy Regulatory Commission, 888 First Street, NE., Washington, DC 20426, in accordance with Section 385.211 of the Commission's rules and regulations. All such protests must be filed in accordance with Section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20317 Filed 8-9-02; 8:45 am]

BILLING CODE 6717-01-P